DEPARTMENT OF AGRICULTURE

Animal and Plant Health Inspection Service

[Docket No. APHIS-2017-0025]

Availability of an Environmental Assessment for Release of Three Parasitoids for Biological Control of the Lily Leaf Beetle

AGENCY: Animal and Plant Health Inspection Service, USDA.

ACTION: Notice of availability and request for comments.

SUMMARY: We are advising the public that the Animal and Plant Health Inspection Service has prepared a draft environmental assessment relative to the release of three parasitoids, Diaparsis jucunda, Lemophagus errabundus, and Tetrastichus setifer for the biological control of the lily leaf beetle. The environmental assessment considers the effects of, and alternatives to, the field release of the parasitoids into the contiguous United States for use as a biological control agent to reduce the severity of infestations of lily leaf beetle. We are making the environmental assessment available to the public for review and comment.

DATES: We will consider all comments that we receive on or before August 14, 2017.

ADDRESSES: You may submit comments by either of the following methods:

• Federal eRulemaking Portal: Go to http://www.regulations.gov/#!docketDetail;D=APHIS-2017-0025.

• Postal Mail/Commercial Delivery: Send your comment to Docket No. APHIS-2017-0025, Regulatory Analysis and Development, PPD, APHIS, Station 3A-03.8, 4700 River Road, Unit 118, Riverdale, MD 20737-1238.

Supporting documents and any comments we receive on this docket may be viewed at http://www.regulations.gov/#!docketDetail;D=APHIS-2017-0025 or in our reading room, which is located in room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: Dr. Colin D. Stewart, Assistant Director, Pests, Pathogens, and Biocontrol Permits Permitting and Compliance Coordination, PPQ, APHIS, 4700 River Road, Unit 133, Riverdale, MD 20737-1231; (301) 851-2327, email: Colin.Stewart@aphis.usda.gov.

SUPPLEMENTARY INFORMATION: Lilies (Lillium spp.) and fritillaries (Fritillaria spp.) are prized for their blooms, whether the showy and enormous Asiatic hybrids or the subtle, fleeting flowers of fritillaries. The aesthetic value of lilies and fritillaries extends to wild lands, where the flowers are a significant visual feature during their bloom, adorning alpine ridges, swampy bottomlands, and desert shrublands alike. The lily leaf beetle, Lilioceris lilii (Coleptera: Chrysomelidae), an aggressive pest of lilies and fritillaries, has expanded its range rapidly over the past decade, and is now found in several northeastern and central States, across Canada, and in Washington State. Further expansion is expected based on its historical distribution in nearly all of Europe and parts of North Africa. The Washington State Department of Agriculture is proposing to release three insect parasitoid species for the biological control of the lily leaf beetle; none of these species have been previously released or established in Washington State. The Animal and Plant Health Inspection Service (APHIS) is proposing to issue permits for the field release of the parasitoids Diaparsis jucunda, Lemophagus errabundus, and Tetrastichus setifer into the continental United States to reduce the severity of lily leaf beetle infestations.

APHIS' review and analysis of the proposed action are documented in detail in a draft environmental assessment (EA) entitled “Field release of Diaparsis jucunda (Hymenoptera: Ichneumonidae), Lemophagus errabundus (Hymenoptera: Ichneumonidae), and Tetrastichus setifer (Hymenoptera: Eulophidae) for biological control of the lily leaf beetle, Lilioceris lilii (Coleoptera: Chrysomelidae) in the Contiguous United States” (January 2017). We are making the EA available to the public for review and comment. We will consider all comments that we receive on or before the date listed under the heading DATES at the beginning of this notice.

The EA may be viewed on the Regulations.gov Web site or in our reading room (see ADDRESSES above for a link to Regulations.gov and information on the location and hours of the reading room). You may request paper copies of the EA by calling or writing to the person listed under FOR FURTHER INFORMATION CONTACT. Please refer to the title of the EA when requesting copies.

The EA has been prepared in accordance with: (1) The National Environmental Policy Act of 1969 (NEPA), as amended (42 U.S.C. 4321 et seq.); (2) regulations of the Council on Environmental Quality for implementing the procedural provisions of NEPA (40 CFR parts 1500-1508); (3) USDA regulations implementing NEPA (7 CFR part 1b); and (4) APHIS' NEPA Implementing Procedures (7 CFR part 372).

Done in Washington, DC, this 7th day of July 2017.
Michael C. Gregoire,
Acting Administrator, Animal and Plant Health Inspection Service.

[FR Doc. 2017-14694 Filed 7-12-17; 8:45 am]

BILLING CODE 3410-34-P